DEPARTMENT OF AGRICULTURE

Submission for OMB Review; Comment Request

May 16, 2017.

The Department of Agriculture has submitted the following information collection requirement(s) to Office of Management and Budget (OMB) for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical, or other technological collection techniques or other forms of information technology.

Comments regarding this information collection received by June 19, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utilities Service

Title: 7 CFR part 1744, subpart B, Lien Accommodations and Subordination Policy.

OMB Control Number: 0572-0126.

Summary of Collection: Recent changes in the telecommunications industry, including deregulation and technological developments, have caused Rural Utilities Service (RUS) borrowers and other organizations providing telecommunications services to consider undertaking projects that provide new telecommunications services and other telecommunications services not ordinarily financed by RUS. The RUS telecommunication program provides loans to borrowers at interest rates and on terms that are more favorable than those generally available from the private sector. To facilitate the financing, RUS will consider accommodating the Federal Government's lien on telecommunications borrowers' systems in an expedited manner based on the financial strength of the borrowers operations as authorized by the Rural Electrification Act of 1936 (RE Act). This collection of information is to ensure that the criteria for fast track lien accommodation are met.

Need and Use of the Information: In order to facilitate supplemental financing for telecommunications services projects, RUS provides fast track lien accommodations to private lenders who propose to lend to RUS borrowers who meet certain financial strength evaluations. Depending on the purposes for which a lien accommodation is sought, RUS will use the information to provide “automatic” approval for borrowers that meet the financial tests. The tests are designed to ensure that the financial strength of the borrower is more than sufficient to protect the government's loan security interests; hence, the lien accommodations will not adversely affect the government's financial interests.

Description of Respondents: Business or other for-profit; Not for-profit institutions.

Number of Respondents: 1.

Frequency of Responses: Reporting: On occasion.

Total Burden Hours: 1.

Charlene Parker,
Departmental Information Collection Clearance Officer.

[FR Doc. 2017-10141 Filed 5-18-17; 8:45 am]

BILLING CODE 3410-15-P